DEPARTMENT OF ENERGY

Federal Energy Regulatory Commission

[Docket No. CP01-439-000]

Columbia Gas Transmission Corporation; Notice of Intent To Prepare an Environmental Assessment for the Proposed Delaware Valley Energy Expansion Project and Request for Comments on Environmental Issues, and Notice of Site Visit

December 6, 2001.

The staff of the Federal Energy Regulatory Commission (FERC or Commission) will prepare an environmental assessment (EA) that will discuss the environmental impacts of the Delaware Valley Energy Expansion Project involving the abandonment, construction and operation of facilities by Columbia Gas Transmission Corporation (Columbia) in Chester and Delaware Counties, Pennsylvania and Gloucester County New Jersey.¹ The facilities being abandoned consist of 9.14 miles of 10- and 14-inch-diameter pipeline. The replacement and new facilities consist of 23.86 miles of 20- and 24-inch-diameter pipeline, addition of compression at two existing compressor stations, valves, and a meter station. The EA will be used by the Commission in its decision-making process to determine whether the project is in the public convenience and necessity.

¹ Columbia's application was filed with the Commission on August 31, 2001, under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Columbia provided to landowners. This fact sheet addresses a number of typically asked questions, including the use of eminent domain and how to participate in the Commission's proceedings. It is available for viewing on the FERC Internet website (www.ferc.fed.us).

Summary of the Proposed Project

Columbia is proposing the Delaware Valley Energy Expansion Project to expand its existing system in Pennsylvania and New Jersey to provide firm transportation to the new Mantua Creek Power Plant being constructed in Gloucester County, New Jersey. This project would allow Columbia to deliver 165,000 Dekatherms per day of gas to the power plant.

In Pennsylvania, Columbia proposes to:

—abandon and replace the existing 10-inch-diameter Line 1856 in Chester County with a 20-inch-diameter pipeline beginning at Columbia's Downingtown Compressor Station, and extending about 8.84 miles to its terminus at Columbia's Eagle Compressor Station;

—abandon and replace the existing 14-inch-diameter Line 1556 in Chester County with a 24-inch-diameter pipeline beginning at Columbia's Eagle Compressor Station, and extending about 0.30 mile to the west;

—construct a 20-inch-diameter pipeline loop ² along Columbia's existing Line 10345 referred to as Line 10360 (PA) for 5.10 miles beginning near Heyburn Road in Delaware County and extending to its terminus at Laurel Pipe Line Company's Buckeye Tank Farm;

² A loop is a segment of pipeline that is installed adjacent to an existing pipeline and connected to it on both ends. The loop allows more gas to be moved through the pipeline system.

—install an additional 6,000-horsepower single electric driven compressor unit in an extension to a new building to be constructed (under Docket No. CP01-260-000) on the site of its existing Eagle Compressor Station in Chester County; and

—install an additional 6,000-horsepower single electric driven compressor unit in an extension to an existing building on the site of its existing Downingtown Compressor Station in Chester County.

In New Jersey, Columbia would:

—construct Line 10360 (NJ) in Gloucester County consisting of a 20-inch-diameter pipeline that loops Columbia's existing Line 10345, beginning at Columbia's existing launcher/receiver lot along Route 130 in Logan Township and extending about 7.52 miles to its terminus at Columbia's Swedesboro Measuring and Regulating (M&R) Station;

—construct Line 10359 consisting of 20-inch-diameter pipeline in Gloucester County beginning at Columbia's West Deptford Meter Station which extends about 2.10 miles to its terminus at the Mantua Creek Power Plant site; and

—construct an M & R station at the terminus of Line 10359 within the power plant site.

Land Requirements for Construction

Construction of Columbia's proposed facilities would require about 281 acres of land, including construction right-of-way for the new pipeline, loops, valves, compressors, and the meter station; and extra work areas needed for pipe storage yards, staging areas, and warehouse sites. The loops would be constructed adjacent to Columbia's existing rights-of-way. For the construction of the pipelines, Columbia proposes to use a 20- to 95-foot-wide construction right-of-way. The construction right-of-way in most areas would overlap Columbia's existing permanent right-of-way or other permanent highway, railroad, natural gas transportation and electric right-of-ways from between 15 feet to 75 feet. Columbia indicates that about 161 acres would be maintained as new permanent right-of-way.

The compressors would be installed within Columbia's existing compressor stations, and would not require the clearing of additional land.

Construction access to Columbia's project generally would be via the construction right-of-way and existing road network. Columbia has identified 23 existing access roads necessary for the construction of its project and would construct 2 additional access roads requiring a total of 0.29 acre of disturbance.

The EA Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our”, refer to the environmental staff of the Office of Energy Projects (OEP).

The EA will discuss impacts that could occur as a result of the construction and operation of the proposed project under these general headings:

—Geology and soils

—Water resources and wetlands

—Vegetation and wildlife

—Threatened and endangered species

—Cultural resources

—Land use

—Reliability and safety

—Air quality and noise

We will evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Columbia. This preliminary list of issues may be changed based on your comments and our analysis.

Water Resources and Wetlands

—Crossing 16 perennial waterbodies.

—Crossing 44 wetlands, including 3.3 acres of forested wetlands.

Vegetation

—About 21.5 acres of forest to be cleared.

Federally-Listed Threatened and Endangered Species

—Potential impact on the bald eagle.

Land Use

—Impact on 107 residences located within 50 feet of the construction work area.

Public Participation and Site Visit

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to:Linwood A. Watson, Jr., Acting Secretary,Federal Energy Regulatory Commission,888 First St., N.E., Room 1A,Washington, DC 20426;

• Label one copy of the comments for the attention of Gas 1, PJ-11.1;

• Reference Docket No. CP01-439-000; and

• Mail your comments so that they will be received in Washington, DC on or before January 7, 2002.

Comments, protests, and interventions may be filed electronically via the Internet in lieu of paper. See 18 CFR 385.2001(a)(1)(iii) and the instructions on the Commission's web site at http://www.ferc.gov under the “e-Filing” link and link to the User's Guide. Before you can file comments you will need to create an account which can be created by clicking on “Login to File” and then “New User Account”.

If you do not want to send comments at this time but still want to remain on our mailing list, please return the Information Request (appendix 2).⁴ If you do not return the Information Request, you will be removed from the environmental mailing list.

⁴ The appendices referenced in this notice are not being printed in the Federal Register. Copies are available on the Commission's website at the “RIMS” link or from the Commission's Public Reference and Files Maintenance Branch, 888 First Street, NE, Room 2A, Washington, DC 20426, or call (202) 208-1371. For instructions on conneting to RIMS refer to the last page of this notice. Copies of the appendices were sent to all those receiving this notice in the mail.

On December 18 and 19, 2001, the Office of Energy Projects staff will conduct a precertification site visit of the project route and possible reroutes. All parties may attend. Those planning to attend must provide their own transportation. On December 18, 2001, we will be meeting at the Columbia Gas Office at 525 Highlands Blvd., Suite 100, Coatesville, PA at 8:00 am. On December 19, 2001, we will be meeting at the Logan Generating Station entrance on U.S. Route 130 about 1.5 miles south of U.S. Route 322 at 8:00 am.

For further information on attending the site visit, please contact the Commission's Office of External Affairs at (202) 208-0004.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 1). Only intervenors have the right to seek rehearing of the Commission's decision.

Affected landowners and parties with environmental concerns may be granted intervenor status upon showing good cause by stating that they have a clear and direct interest in this proceeding which would not be adequately represented by any other parties. You do not need intervenor status to have your environmental comments considered.

Copies of this filing are on file with the Commission and are available for public inspection. This filing may also be viewed on the web at http://www.ferc.gov using the “RIMS” link, select “Docket #” and follow the instructions (call 202-208-2222 for assistance).

Similarly, the “CIPS” link on the FERC Internet website provides access to the texts of formal documents issued by the Commission, such as orders, notices, and rulemakings. From the FERC Internet website, click on the “CIPS” link, select “Docket#” from the CIPS menu, and follow the instructions. For assistance with access to CIPS, the CIPS helpline can be reached at (202) 208-2474.

Linwood A. Watson, Jr.,
Acting Secretary.

[FR Doc. 01-30700 Filed 12-11-01; 8:45 am]

BILLING CODE 6717-01-P